FEDERAL COMMUNICATIONS COMMISSION

47 CFR Parts 0, 1, and 64

[CC Docket No. 94-129; FCC 00-135]

Implementation of the Subscriber Carrier Selection Changes Provisions of the Telecommunications Act of 1996; Policies and Rules Concerning Unauthorized Changes of Consumers Long Distance Carriers

AGENCY: Federal Communications Commission.

ACTION: Final rule; announcement of effective date.

SUMMARY: This document announces the effective date of the amendments to certain liability rules in our slamming proceeding. We believe these modifications will strengthen the deterrent effect of our slamming liability rules, while addressing concerns raised with respect to the previous administrative procedures. The First Order on Reconsideration was published in the Federal Register on August 3, 2000. Some of the rules contained information collection requirements.

DATES: Sections 1.719(a) through (d), 64.1110(a) and (b), 64.1140(a) and (b), 64.1150(a) through (d), 64.1160(b) through (f), and 64.1170(b) through (f) published at 65 FR 47678 (August 3, 2000), were approved by the Office of Management and Budget (OMB) on October 3, 2000 and will become effective on November 28, 2000.

FOR FURTHER INFORMATION CONTACT: Michele Walters or Dana Walton-Bradford, Accounting Policy Division, Common Carrier Bureau, (202) 418-7400, TTY: (202) 418-0484.

SUPPLEMENTARY INFORMATION: On May 3, 2000, the Commission released a First Order on Reconsideration (Order), 65 FR 47678 (August 3, 2000), that adopted revised slamming liability rules, granting in part petitions for reconsideration of our Section 258 Order, 64 FR 7763 (February 16, 1999). Specifically, the revised rules provide that slamming disputes between consumers and unauthorized carriers may be brought before appropriate state commissions or this Commission, in cases where the state has not opted to administer our rules, rather than before authorized carriers. The Commission also modified the liability rules that apply when a consumer has paid charges to a slamming carrier. In such instances, our new rules require slamming carriers to pay 150% of the collected charges to the authorized carrier, which, in turn, will pay the consumer 50% of his or her original payment. Finally, the Commission sets forth certain notification requirements to facilitate carriers' compliance with the liability rules. The Commission believes these modifications will strengthen the deterrent effect of the slamming liability rules, while addressing concerns raised with respect to the previous administrative procedures. A summary of the Order was published in the Federal Register. See 65 FR 47678 (August 3, 2000). Some of the rules contained information collection requirements that required OMB approval. On October 3, 2000, OMB approved the information collections. See OMB No. 3060-0787. The rule amendments adopted by the Commission in the Order will take effect on November 28, 2000. This publication satisfies the statement in the Order that the Commission would publish a document in the Federal Register announcing the effective date of the rules.

List of Subjects

47 CFR Part 0

Classified information, Freedom of information, Reporting and recordkeeping.

47 CFR Part 1

Administrative practice and procedure, Communications common carriers, Telecommunications.

47 CFR Part 64

Communications common carriers, Reporting and recordkeeping requirements, Telephone.

Federal Communications Commission.
Magalie Roman Salas,
Secretary.

[FR Doc. 00-28607 Filed 11-7-00; 8:45 am]

BILLING CODE 6712-01-P